DEPARTMENT OF COMMERCE

International Trade Administration

[A-570-912]

Certain New Pneumatic Off-the-Road Tires From the People's Republic of China: Initiation of Changed Circumstances Review

AGENCY: Enforcement and Compliance, formerly Import Administration, International Trade Administration, Department of Commerce.

SUMMARY: The Department of Commerce (“the Department”) has received information sufficient to warrant initiation of a changed circumstances review of the antidumping duty order on certain new pneumatic off-the-road tires (“OTR tires”) from the People's Republic of China (“PRC”). Specifically, based upon a request filed by Shandong Linglong Tyre Co., Ltd. (“Shandong Linglong”), an exporter to the United States of subject merchandise, the Department is initiating a changed circumstances review to determine whether Shandong Linglong is the successor-in-interest to Zhaoyuan Leo Rubber Co., Ltd. (“Leo Rubber”), a separate-rate respondent in the original investigation.

DATES: Effective: October 30, 2013.

FOR FURTHER INFORMATION CONTACT: Andrew Medley or Eugene Degnan, AD/CVD Operations, Office III, Enforcement and Compliance, International Trade Administration, U.S. Department of Commerce, 1401 Constitution Avenue NW., Washington, DC 20230; telephone: 202-482-4987 or 202-482-0414, respectively.

SUPPLEMENTARY INFORMATION:

Background

On September 4, 2008, the Department published in the Federal Register an antidumping duty order on OTR tires from the PRC.¹ Under the Order, Leo Rubber received the separate-rate respondent amended rate of 12.91 percent.²

¹ See Certain New Pneumatic Off-the-Road Tires From the People's Republic of China: Notice of Amended Final Affirmative Determination of Sales at Less Than Fair Value and Antidumping Duty Order, 73 FR 51624 (September 4, 2008) (“Order”).

² On August 30, 2012, the Department published in the Federal Register a final determination, under section 129 of the Uruguay Round Agreements Act (“URAA”), regarding the antidumping duty investigation on OTR Tires from the PRC. See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683 (August 30, 2012). As part the Department's final determination under section 129 of the URAA, Leo Rubber was assigned a revised cash deposit rate of 12.83 percent. Id., 77 FR at 51627.

On August 26, 2013, Shandong Linglong filed a submission requesting that the Department conduct a changed circumstances review of the Order to confirm that Shandong Linglong is the successor-in-interest to Leo Rubber. In its submission, Shandong Linglong provided a board of directors resolution authorizing the change of company name; a notice from the Yantai City Administration for Industry and Commerce approving the name change from Leo Rubber to Shandong Linglong; business licenses for Leo Rubber and Shandong Linglong, before and after the name change, respectively; legal structure charts and company management before and after the name change; and a list of suppliers before and after the name change.³

³ See Letter from Shandong Linglong to the Department regarding New Pneumatic Off-The-Road Tires from the People's Republic of China: Request for Changed Circumstances Review (August 26, 2013).

Scope of the Order

The merchandise covered by this Order includes new pneumatic tires designed for off-the-road and off-highway use, subject to certain exceptions.⁴ The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.

⁴ For a complete description of the Scope of the Order, see Certain New Pneumatic Off-the-Road Tires From the People's Republic of China: Final Results of Antidumping Duty New Shipper Review; 2011-2012, 78 FR 33341 (June 4, 4013), and accompanying Issues and Decision Memorandum at “Scope”.

Initiation of Changed Circumstances Review

Pursuant to section 751(b)(1) of the Tariff Act of 1930, as amended (“the Act”), the Department will conduct a changed circumstances review upon receipt of information concerning, or a request from, an interested party for a review of an antidumping duty order which shows changed circumstances sufficient to warrant a review of the order. In the event that the Department determines that expedited action is warranted, 19 CFR 351.221(c)(3)(ii) permits the Department to combine the notices of initiation and preliminary results.

In accordance with 19 CFR 351.216(d), the Department has determined that the information submitted by Shandong Linglong constitutes sufficient evidence to conduct a changed circumstances review. In an antidumping duty changed circumstances review involving a successor-in-interest determination, the Department typically examines several factors including, but not limited to, changes in: (1) Management; (2) production facilities; (3) supplier relationships; and (4) customer base.⁵ While no single factor or combination of factors will necessarily be dispositive, the Department generally will consider the new company to be the successor to the predecessor if the resulting operations are essentially the same as those of the predecessor company.⁶ Thus, if the record demonstrates that, with respect to the production and sale of the subject merchandise, the new company operates as the same business entity as the predecessor company, the Department may assign the new company the cash deposit rate of its predecessor.⁷

⁵ See, e.g., Certain Activated Carbon From the People's Republic of China: Notice of Initiation of Changed Circumstances Review, 74 FR 19934, 19935 (April 30, 2009).

⁶ See, e.g., Notice of Initiation of Antidumping Duty Changed Circumstances Review: Certain Forged Stainless Steel Flanges from India, 71 FR 327 (January 4, 2006).

⁷ See, e.g., Fresh and Chilled Atlantic Salmon From Norway; Final Results of Changed Circumstances Antidumping Duty Administrative Review, 64 FR 9979, 9980 (March 1, 1999).

Based on the information provided in its submission, Shandong Linglong has provided sufficient evidence to warrant a review to determine if it is the successor-in-interest to Leo Rubber. Therefore, pursuant to section 751(b)(1) of the Act and 19 CFR 351.216(d), we are initiating a changed circumstances review.⁸ However, the Department finds its necessary to issue a questionnaire requesting additional information for the review as provided for by 19 CFR 351.221(b)(2). For that reason, the Department is not conducting this review on an expedited basis by publishing preliminary results in conjunction with this notice of initiation. The Department will publish in the Federal Register a notice of the preliminary results of the antidumping duty changed circumstances review, in accordance with 19 CFR 351.221(b)(4), and 19 CFR 351.221(c)(3)(i). That notice will set forth the factual and legal conclusions upon which our preliminary results are based and a description of any action proposed. Pursuant to 19 CFR 351.221(b)(4)(ii), interested parties will have an opportunity to comment on the preliminary results of review. In accordance with 19 CFR 351.216(e), the Department will issue the final results of its antidumping duty changed circumstances review not later than 270 days after the date on which the review is initiated, or not later than 45 days if all parties to the proceeding agree to the outcome of the review.

⁸ As explained in the memorandum from the Assistant Secretary for Enforcement and Compliance, the Department has exercised its discretion to toll deadlines for the duration of the closure of the Federal Government from October 1, through October 16, 2013. See Memorandum for the Record from Paul Piquado, Assistant Secretary for Enforcement and Compliance, “Deadlines Affected by the Shutdown of the Federal Government” (October 18, 2013). Therefore, the deadline for the initiation of this changed circumstances review has been extended by 16 days; the revised deadline is now October 28, 2013.

This notice is published in accordance with sections 751(b)(1) and 777(i) of the Act and 19 CFR 351.216(b) and 351.221(b)(1).

Dated: October 24, 2013.
Christian Marsh,
Deputy Assistant Secretary for Antidumping and Countervailing Duty Operations.

[FR Doc. 2013-25821 Filed 10-29-13; 8:45 am]

BILLING CODE 3510-DS-P